NATIONAL SCIENCE FOUNDATION

Large Scale Networking (LSN)—Middleware and Grid Interagency Coordination (MAGIC) Team

AGENCY: The Networking and Information Technology Research and Development (NITRD) National Coordination Office (NCO), National Science Foundation.

ACTION: Notice of meetings; correction.

SUMMARY: The National Science Foundation (NSF) published a document in the Federal Register of February 2, 2018, concerning meeting notices for the Networking and Information Technology Research and Development (NITRD) National Coordination Office (NCO), National Science Foundation. There was a broken link in the notice.

Correction

In the Federal Register of February 2, 2018, in FR Doc. 2018-02100, on page 4931, in the first column, please correct the web link to read: https://www.nitrd.gov/nitrdgroups/index.php?title=Middleware_And_Grid_Interagency_Coordination_(MAGIC)

FOR FURTHER INFORMATION CONTACT: Ms. Joyce Lee at joyce.lee@nitrd.gov or (202) 459-9674.

Dated: February 8, 2018.
Suzanne H. Plimpton,
Reports Clearance Officer, National Science Foundation.

[FR Doc. 2018-02921 Filed 2-12-18; 8:45 am]

BILLING CODE 7555-01-P